NATIONAL INSTITUTE FOR LITERACY

National Institute for Literacy Advisory Board

AGENCY: National Institute for Literacy.

ACTION: Notice of a partially closed meeting.

SUMMARY: This notice sets forth the schedule and a summary of the agenda for an upcoming meeting of the National Institute for Literacy Advisory Board (Board). The notice also describes the functions of the Board. Notice of this meeting is required by section 10(a)(2) of the Federal Advisory Committee Act. This document is intended to notify the general public of their opportunity to attend the meeting. Individuals who will need accommodations for a disability in order to attend the meeting (e.g., interpreting services, assistive listening devices, or materials in alternative format) should notify Liz Hollis at telephone number (202) 233-2072 no later than January 18, 2005. We will attempt to meet requests for accommodations after this date but cannot guarantee their availability. The meeting site is accessible to individuals with disabilities.

Date and Time: Open sessions—February 2, 2005, from 8:30 a.m. to 5 p.m. and February 3, 2005, from 9:20 a.m. to 5 p.m. Closed sessions—February 3, 2005, from 8:30 a.m. to 9:15 a.m.

ADDRESSES: National Institute for Literacy, 1775 I Street, NW., Suite 730, Washington, DC 20006.

FOR FURTHER INFORMATION CONTACT: Liz Hollis, Special Assistant to the Director; National Institute for Literacy, 1775 I Street, NW., Suite 730, Washington, DC 20006; telephone number: (202) 233-2072; e-mail: ehollis@nifl.gov.

SUPPLEMENTARY INFORMATION: The Board is established under section 242 of the Workforce Investment Act of 1998, Public Law 105-220 (20 U.S.C. 9252). The Board consists of ten individuals appointed by the President with the advice and consent of the Senate. The Board advises and makes recommendations to the Interagency Group. The Interagency Group is composed of the Secretaries of Education, Labor, and Health and Human Services, and the three Secretaries administer the National Institute for Literacy (Institute). The Interagency Group considers the Board's recommendations in planning the goals of the Institute and in implementing any programs to achieve those goals. Specifically, the Board performs the following functions: (a) Makes recommendations concerning the appointment of the Director and the staff of the Institute; (b) provides independent advice on operation of the Institute; and (c) receives reports from the Interagency Group and the Institute's Director.

The National Institute for Literacy Advisory Board will meet February 2-3, 2005. On February 2, 2005 from 8:30 a.m. to 5 p.m. and February 3, 2005 from 9:20 a.m. to 5 p.m., an open meeting will be held to discuss the Institute's performance measures; gather information on current issues in adolescent literacy and other literacy issues; and other Board business as necessary. On February 3, 2005 from 8:30 a.m. to 9:15 a.m., the Board meeting will be closed to the public to discuss personnel issues, including the search for a permanent director for NIFL. This discussion relates to the internal personnel rules and practices of the Institute and is likely to disclose information of a personal nature where disclosure would constitute a clearly unwarranted invasion of personal privacy. The discussion must therefore be held in closed session under exemptions 2 and 6 of the Government in the Sunshine Act, 5 U.S.C. 552b(c)(2) and (6). A summary of the activities at the closed session and related matters that are informative to the public and consistent with the policy of 5 U.S.C. 552b will be available to the public within 14 days of the meeting.

Records are kept of all Advisory Board proceedings and are available for public inspection at the National Institute for Literacy, 1775 I Street, NW., Suite 730, Washington, DC 20006, from 8:30 a.m. to 5 p.m.

Dated: January 7, 2005.
Lynn Reddy,
Acting Interim Director.

[FR Doc. 05-601 Filed 1-7-05; 12:40 pm]

BILLING CODE 6055-01-P